DEPARTMENT OF ENERGY

Federal Energy Regulatory Commission

[Docket No. CP06-45-005]

Northwest Pipeline Corporation; Notice of Application

September 13, 2007.

Take notice that on August 24, 2007, Northwest Pipeline Corporation (Northwest), filed in the above referenced docket, an abbreviated application pursuant to section 7(c) of the Natural Gas Act to amend the certificate of public convenience and necessity that was issued for its Parachute Lateral project by Commission order dated August 16, 2006 in Docket Nos. CP06-45-000 and CP06-45-001.

Northwest requests the Commission to amend the existing certificate of public convenience and necessity issued in Docket Nos. CP06-45-000 and 001 authorizing Northwest to transfer the ownership of the facilities constructed in Docket Nos. CP06-45-000 and 001 to Parachute Pipeline LLC (Parachute) and lease back the Parachute Lateral Facilities from Parachute and continue to operate them as part of Northwest's jurisdictional pipeline system.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time September 19, 2007.

Kimberly D. Bose,
Secretary.

[FR Doc. E7-18427 Filed 9-18-07; 8:45 am]

BILLING CODE 6717-01-P